DEPARTMENT OF HEALTH AND HUMAN SERVICES

Centers for Disease Control and Prevention

[30Day-20-19GH]

Agency Forms Undergoing Paperwork Reduction Act Review

In accordance with the Paperwork Reduction Act of 1995, the Centers for Disease Control and Prevention (CDC) has submitted the information collection request titled Evaluating the implementation and impact of a fall prevention program, including opioid medication management, in a hospital discharge setting, to the Office of Management and Budget (OMB)for review and approval. CDC previously published a “Proposed Data Collection Submitted for Public Comment and Recommendations” notice on 02/07/2019 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Evaluating the implementation and impact of an opioid medication management program, in a hospital discharge setting, to reduce falls in older adults—New—National Center for Injury Prevention and Control (NCIPC), Centers for Disease Control and Prevention (CDC).

Background and Brief Description

Over one in four older adults report a fall, and one in 10 report a fall injury each year. Falls result in serious injuries. They are the leading cause of traumatic brain injuries in older adults and 95% of hip fractures in older adults are due to falls.

Certain types of medications, known as psychoactive medications, have been associated with an increased fall risk in older adults. Psychoactive medications, including opioids and benzodiazepines, affect the central nervous system and can cause side effects such as dizziness, sedation, confusion, blurred vision, and orthostatic hypotension. Opioid prescribing in emergency department settings, inpatient settings, and at hospital discharge settings is very common and may increase future chronic opioid use. Studies have shown that opioid treatments in older adults are associated with significantly increased risk of falls, injurious falls, and fractures.

This data collection will perform a formative evaluation of the implementation and impact of a fall prevention program in a hospital discharge setting at the University of California, San Francisco (UCSF). Components of the program will target opioid medication management in the acute and post-acute settings and referral to clinically effective programs to reduce the risk of falls and opioid misuse. A total of four questionnaires will be administered. (1) The Pre-discharge patient questionnaire will be used to survey older adults at University of California San Francisco (UCSF) Medical Center while in the hospital (before discharge). The questionnaire includes 47 questions and is expected to take approximately 10 minutes to complete. (2) The Post-discharge patient questionnaire will be used to survey the older adults that completed the pre-discharge survey three additional times (at 14, 30 and 60 days) after being discharged from UCSF Medical Center. This questionnaire includes 60 questions and is expected to take approximately 10 minutes to complete. (3) The UCSF Clinical staff evaluation questionnaire will be used to survey clinical staff at the UCSF Medical Center. The questionnaire includes 31 questions and is expected to take approximately five minutes to complete. (4) The Primary Care Provider (PCP) post-discharge questionnaire will be used to survey primary care providers involved in the care of patients discharged from USCF. The questionnaire includes 11 questions and is expected to take approximately five minutes to complete.

CDC will use the information collected to: (1) Examine post-discharge use of opioids or alternative therapies for pain management among older adult patients, (2) examine post-discharge compliance and follow up by older adults with primary care doctors and/or specialist referrals for pain management and fall prevention efforts, (3) identify rate of readmission for a fall by level of patient compliance and follow-up post-discharge, (4) evaluate the uptake of the program by clinical staff, and (5) identify opportunities for program and process improvement.

The data collection proposed by this project represents the first federal effort to monitor use of opioids and other pain relief strategies through implementation of the fall prevention and opioid management initiative in a hospital discharge setting to measure impact on older adult health outcomes. The total estimated annualized burden hours is 541. There are no costs to the respondents other than their time.

Estimated Annualized Burden Hours
Type of respondent | Form name | Number of respondents | Number of responses per respondent | Average burden per response (in hours)
Older adult Patients | Pre-discharge Patient Questionnaire | 800 | 1 | 10/60
| Post-discharge Patient Questionnaire | 800 | 3 | 10/60
UCSF clinical staff | Clinical Staff Evaluation Questionnaire | 50 | 1 | 5/60
Primary care providers (PCP) | PCP post discharge survey | 50 | 1 | 5/60

Jeffrey M. Zirger,
Lead, Information Collection Review Office, Office of Scientific Integrity, Office of Science, Centers for Disease Control and Prevention.

[FR Doc. 2019-25152 Filed 11-19-19; 8:45 am]

BILLING CODE 4163-19-P